DEPARTMENT OF LABOR

Employment and Training Administration

Proposed Information Collection Request Submitted for Public Comment and Recommendations; Petition Form

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Written comments must be submitted to the office listed below on or before August 8, 2005.

ADDRESSES: Tim Sullivan, U.S. Department of Labor, Employment and Training Administration, Room C-5311, 200 Constitution Avenue, Phone: 202-693-3708, Fax: 202.693.3584, E-mail sullivan.timothy@dol.gov.

SUPPLEMENTARY INFORMATION: I. Section 221 (a) of title II, chapter 2 of the Trade Act of 1974, as amended by the Trade Act of 2002, authorizes the Secretary of Labor and the Governor of each state to accept petitions for certification of eligibility to apply for trade adjustment assistance. The petitions may be filed by a group of workers, their certified or recognized union or duly authorized representative, employers of such workers, local One-Stop Career Center operators or partners. ETA Form 9042a, Petition for Trade Adjustment Assistance and Alternative Trade Adjustment Assistance, and its Spanish translation, ETA Form 9042a-1, Solicitud De Asistencia Para Ajuste (TAA)y Asistencia Alterna Para Ajuste (ATAA), establish a format that may be used for filing such petitions. Section 246 of the Trade Act requires that the Secretary provide petitioners with an opportunity to apply for ATAA at the time the petition is filed. In addition, this version will be used for the purpose of online filing, as well as submission by fax and mail.

II. Review Focus

Currently, the Employment and Training Administration is soliciting comments concerning the proposed revision of the Petition for Trade Adjustment Assistance and Alternative Trade Adjustment Assistance (formerly Petition for Trade Adjustment Assistance), and is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Revision of a currently approved collection.

Agency: Employment and Training Administration.

Title: Petition for Trade Adjustment Assistance and Alternative Trade Adjustment Assistance, ETA 9042a.

OMB Number: 1205-0342.

Record Keeping: Respondent is expected to maintain data which support requested data for three years.

Affected Public: Individuals or households/Business or other for-profit/Not-for-profit institutions/Farms/Federal Government/State, Local or Tribal Government.

Burden: 4,100 Responses x 20 minutes = 1,367 hours.

Total Respondents: 4,100.

Frequency: On Occasion.

Total Responses: 4,100.

Average Time Per Response: 20 Minutes.

Estimated Total Burden Hours: 1,367.

Total Burden Cost (Capital/Startup): $0.

Total Burden Cost (Operating/Maintaining): $0.

Comments submitted in response to this notice will be summarized and/or included in the request for Office of Management and Budget approval of the information collection request; they will also become a matter of public record.

Dated: June 2, 2005.
Emily Stover DeRocco,
Assistant Secretary for Employment and Training.

[FR Doc. 05-11373 Filed 6-7-05; 8:45 am]

BILLING CODE 4510-30-P